DEPARTMENT OF COMMERCE

International Trade Administration

[A-570-112, C-570-113]

Antidumping and Countervailing Duty Orders on Certain Collated Steel Staples From the People's Republic of China: Final Affirmative Determinations of Circumvention With Respect to the Kingdom of Thailand and the Socialist Republic of Vietnam

AGENCY: Enforcement and Compliance, International Trade Administration, Department of Commerce.

SUMMARY: The U.S. Department of Commerce (Commerce) determines that imports of certain collated steel staples (collated staples) that were exported from the Kingdom of Thailand (Thailand) or the Socialist Republic of Vietnam (Vietnam), using inputs (i.e., steel wire and wire bands) manufactured in the People's Republic of China (China), as specified below, are circumventing the antidumping duty (AD) and countervailing duty (CVD) orders on collated staples from China.

DATES: Applicable February 29, 2024.

FOR FURTHER INFORMATION CONTACT: Brian Smith (Thailand) or Shane Subler (Vietnam), AD/CVD Operations, Office VIII, Enforcement and Compliance, International Trade Administration, U.S. Department of Commerce, 1401 Constitution Avenue NW, Washington, DC 20230; telephone: (202) 482-1766 and (202) 482-6241, respectively.

SUPPLEMENTARY INFORMATION:

Background

On July 20, 2020, Commerce published in the Federal Register the AD and CVD orders on collated staples from China.¹ On December 14, 2022, Commerce initiated country-wide circumvention inquiries pursuant to section 781(b) of the Tariff Act of 1930, as amended (the Act), and 19 CFR 351.226(d)(1)(ii) to determine whether imports of collated staples using Chinese-origin steel wire and wire bands that are completed or assembled (e.g., processing galvanized steel wire or wire bands through staple-forming machines) in Thailand and Vietnam are circumventing the Orders.² On August 24, 2023, Commerce published in the Federal Register its Preliminary Determinations that imports of collated staples completed in Thailand using steel wire and wire bands produced in China and imports of collated staples completed in Vietnam using wire bands produced in China are circumventing the Orders.³

¹ See Certain Collated Steel Staples from the People's Republic of China: Antidumping Duty Order, 85 FR 43815 (July 20, 2020) (AD Order); and Certain Collated Steel Staples from the People's Republic of China: Countervailing Duty Order, 85 FR 43813 (July 20, 2020) (CVD Order) (collectively, Orders).

² See Certain Collated Steel Staples from the People's Republic of China: Initiation of Circumvention Inquiries on the Antidumping Duty and Countervailing Duty Orders, 87 FR 78047 (December 21, 2022), and accompanying Memorandum, “Certain Collated Steel Staples from the People's Republic of China: Initiation of Circumvention Inquiries on the Antidumping and Countervailing Duty Orders,” dated December 14, 2022.

³ See Antidumping and Countervailing Duty Orders on Certain Collated Steel Staples from the People's Republic of China: Preliminary Affirmative Determinations of Circumvention With Respect to the Kingdom of Thailand and the Socialist Republic of Vietnam, 88 FR 57931 (August 24, 2023) (Preliminary Determinations), and accompanying Thailand Preliminary Decision Memorandum (Thailand PDM) and Vietnam Preliminary Decision Memorandum (Vietnam PDM) (collectively, Preliminary Decision Memoranda).

On September 25, 2023, Commerce extended the deadline for the final determinations of these circumvention inquiries to December 21, 2023.⁴ On December 15, 2023, Commerce further extended the deadline for the final determinations in these circumvention inquiries to January 23, 2024.⁵ For a summary of events that occurred since the Preliminary Determinations, as well as a full discussion of the issues raised by parties for consideration in the final determinations, see the Issues and Decision Memoranda.⁶

⁴ See Memorandum, “Extension of Deadline for Issuing Final Determination in Circumvention Inquiry,” dated September 25, 2023.

⁵ See Memorandum, “Extension of Deadline for Issuing Final Determinations in Circumvention Inquiries,” dated December 15, 2023.

⁶ See Memorandum, “Issues and Decision Memorandum for the Final Affirmative Circumvention Determination of the Antidumping Duty and Countervailing Duty Orders on Certain Collated Steel Staples from the People's Republic of China with Respect to the Kingdom of Thailand” (Thailand IDM); and Memorandum, “Issues and Decision Memorandum for the Final Affirmative Circumvention Determination of the Antidumping Duty and Countervailing Duty Orders on Certain Collated Steel Staples from the People's Republic of China with Respect to the Socialist Republic of Vietnam” (Vietnam IDM); each dated concurrently with, and hereby adopted by, this notice (collectively, Issues and Decision Memoranda).

The Issues and Decision Memoranda are public documents and are on file electronically via Enforcement and Compliance's Antidumping and Countervailing Duty Centralized Electronic Service System (ACCESS). ACCESS is available to registered users at https://access.trade.gov. In addition, a complete version of the Issues and Decision Memoranda can be accessed directly at https://access.trade.gov/public/FRNoticesListLayout.aspx.

Scope of the Orders

The products covered by the Orders include certain collated steel staples. For a full description of the scope of the Orders, see the Issues and Decision Memoranda.

Merchandise Subject to the Circumvention Inquiry

These circumvention inquiries cover collated staples, assembled or completed in Thailand using Chinese-origin steel wire and/or wire bands, and in Vietnam using Chinese-origin steel wire and/or wire bands, that are subsequently exported from Thailand and Vietnam to the United States (inquiry merchandise).

Methodology

Commerce is conducting these circumvention inquiries in accordance with section 781(b) of the Act, and 19 CFR 351.226. See Preliminary Determinations Preliminary Decision Memoranda for a full description of the methodology.⁷ We have continued to apply this methodology, without exception, and incorporate by reference this description of the methodology, for our final determinations.

⁷ See Preliminary Determinations Thailand PDM at 6-23 and Vietnam PDM at 8-23.

Analysis of Comments Received

All issues raised in the case and rebuttal briefs by parties in these inquiries are addressed in the Issues and Decision Memoranda. A list of the issues raised is attached to this notice at appendix I.

Based on our analysis of the comments received from interested parties, we made the following two changes with respect to the inquiry involving Thailand:

(1) We clarified the certification language (see appendix III), which we have modified to include mill certificates in the list of documents that parties have available and may provide, if requested by U.S. Customs and Border Protection (CBP) and/or Commerce, in support of their certification that the imports of collated staples produced in Thailand that are covered by their certification were not manufactured using steel wire and/or wire bands produced in China; and

(2) We revised the processing cost calculations for the two Thai mandatory respondents by including an amount for general and administrative expenses, interest expenses, and unrefunded taxes incurred for input purchases.

Further, based on our analysis of the comments received from interested parties, we made the following two changes with respect to the inquiry involving Vietnam:

(1) We found that imports of collated staples completed in Vietnam using steel wire or wire bands manufactured in China, as opposed to only wire bands manufactured in China, have circumvented the Orders on a country-wide basis; and

(2) We clarified the certification language (see Appendix IV), which we have modified to include mill certificates in the list of documents that parties have available and may provide, if requested by CBP and/or Commerce, in support their certification that the imports of collated staples produced in Vietnam that are covered by their certification were not manufactured using steel wire and/or wire bands produced in China.

Final Circumvention Determinations

We determine that collated staples, assembled or completed in Thailand and Vietnam by the entities identified in Appendix II to this notice, using Chinese-origin steel wire and/or wire bands that are subsequently exported from Thailand or Vietnam, are circumventing the Orders. For a detailed explanation of our determinations with respect to the entities identified in Appendix II, see the Preliminary Decision Memoranda, the Issues and Decision Memoranda, and the “Use of Adverse Facts Available” section of this notice below.

We also determine that U.S. imports of inquiry merchandise exported from Thailand and Vietnam are circumventing the Orders on a country-wide basis. As a result, in accordance with section 781(b) of the Act, we determine that this merchandise is covered by the Orders. See the “Suspension of Liquidation and Cash Deposit Requirements” section, below, for details regarding suspension of liquidation and cash deposit requirements. See the “Certifications” and “Certification Requirements” sections, below, for details regarding the use of certifications.

Use of Adverse Facts Available (AFA)

Within the context of the Vietnam inquiry, Commerce continues to find that necessary information is not available on the record with respect to Meihotech Vietnam Inc. (Meihotech) and Weifang Wenhe Pneumatic Tools Co., Ltd. (Weifang Wenhe) within the meaning of section 776(a)(1) of the Act, and that Meihotech and Weifang Wenhe withheld requested information, failed to provide requested information by the deadline or in the form or manner requested, and significantly impeded the inquiry pursuant to sections 776(a)(1), (A), (B), and (C) of the Act. Moreover, Commerce continues to find that these companies failed to cooperate by not acting to the best of their ability to provide requested information pursuant to section 776(b)(1) of the Act. Consequently, we have continued to use adverse inferences with respect to Meihotech and Weifang Wenhe in selecting from among the facts otherwise available on the record, pursuant to sections 776(a) and (b) of the Act, for the reasons discussed in the Preliminary Determinations and the Vietnam IDM.⁸ Based on the AFA used, we determine that Meihotech and Weifang Wenhe exported inquiry merchandise and that U.S. entries of that merchandise are circumventing the Orders. Additionally, we are precluding Meihotech and Weifang Wenhe from participating in the certification program that we are establishing for exports of collated staples from Vietnam. U.S. entries of inquiry merchandise made on or after December 21, 2022, that are ineligible for certification based on the failure of these companies to cooperate, or for other reasons, shall remain subject to suspension of liquidation until final assessment instructions on those entries are issued, whether by automatic liquidation instructions, or by instructions pursuant to the final results of an administrative review. Interested parties that wish to have their suspended entries, if any, reviewed, and their ineligibility for the certification program reevaluated, should request an administrative review of the relevant suspended entries during the next anniversary month of these Orders (i.e., July 2024).⁹

⁸ See Preliminary Determinations, 88 FR 57931-57932; see also Vietnam IDM at Comment 13.

⁹ See 19 CFR 351.213(b).

Suspension of Liquidation and Cash Deposit Requirements

Based on the affirmative country-wide determinations of circumvention for Thailand and Vietnam, in accordance with 19 CFR 351.226(l)(3), we will direct CBP to suspend liquidation and require a cash deposit of estimated duties on unliquidated entries of collated staples completed or assembled in Thailand or Vietnam using Chinese-origin steel wire and/or wire bands that were entered, or withdrawn from warehouse, for consumption on or after December 21, 2022, the date of publication of the initiation of this circumvention inquiry in the Federal Register.

For exporters of collated staples that have a company-specific cash deposit rate under the AD Order and/or CVD Order, the cash deposit rate will be the company-specific AD and/or CVD cash deposit rate established for that company in the most recently completed segment of the collated staples proceedings. For exporters of collated staples that do not have a company-specific cash deposit rate under the AD Order and/or CVD Order, the cash deposit rate will be the company-specific cash deposit rate established under the AD Order and/or CVD Order for the company that exported the Chinese-origin steel wire and/or wire bands that were incorporated into the imported collated staples to the producer/exporters in Thailand or Vietnam.

If neither the exporter of the collated staples from Thailand or Vietnam, nor the Chinese exporter of the steel wire and/or wire bands has a company-specific cash deposit rate, the AD cash deposit rate will be the China-wide rate (i.e., 112.01 percent), and the CVD cash deposit rate will be the China all-others rate (i.e., 12.32 percent).

Commerce has established the following third-country case numbers in the Automated Commercial Environment (ACE) for such entries: Thailand A-549-112/C-549-113; Vietnam A-552-112/C-552-113. The suspension of liquidation will remain in effect until further notice.

See Appendices III and IV for the revised importer and exporter certifications, which we have modified based on the changes explained in the “Analysis of Comments Received” section above.

Certified Entries

Entries for which the importer and exporter have met the certification requirements described below and in Appendices III and IV to this notice will not be subject to suspension of liquidation, or the cash deposit requirements described above. Failure to comply with the applicable requisite certification requirements may result in the merchandise being subject to antidumping and countervailing duties.

Certifications

To administer the country-wide affirmative determinations of circumvention for Thailand and Vietnam, Commerce established importer and exporter certifications which will permit importers and exporters to establish that specific entries of collated staples from Thailand or Vietnam are not subject to suspension of liquidation or the collection of cash deposits pursuant to these affirmative determinations of circumvention because the merchandise meets the requirements described in the certification (see appendix III (for Thailand) and appendix IV (for Vietnam) to this notice). Because Meihotech and Weifang Wenhe were non-cooperative, they are not eligible to use the certifications described above.¹⁰

¹⁰ See Preliminary Determinations Vietnam PDM at the “Use of Facts Available with Adverse Inferences” section; see also, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675-76 (October 13, 1998).

Importers and exporters that claim that the entry of collated staples is not subject to suspension of liquidation or the collection of cash deposits based on the inputs used to manufacture such merchandise must complete the applicable certification and meet the certification and documentation requirements described below, as well as the requirements identified in the applicable certification.

Certification Requirements for Thailand and Vietnam

Importers are required to complete and maintain the applicable importer certification, maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as a broker, however, are not permitted to certify on behalf of the importer.

Exporters are required to complete and maintain the applicable exporter certification and provide the importer with a copy of that certification and all supporting documentation (e.g., invoice, purchase order, production records, mill certificates, etc.). With the exception of the entries described below, the exporter certification must be completed, signed, and dated by the time of shipment of the relevant entries. The exporter certification should be completed by the party selling the collated staples that were manufactured in Thailand or Vietnam to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all collated staples from Thailand or Vietnam that were entered, or withdrawn from warehouse, for consumption during the period December 21, 2022 (the date of publication of the initiation of these circumvention inquiries), through the date of publication of the Preliminary Determinations in the Federal Register, where the entry has not been liquidated (and entries for which liquidation has not become final), the relevant certification should already be completed and signed.

For unliquidated entries (and entries for which liquidation has not become final) of collated staples that were declared as non-AD/CVD type entries (e.g., type 01) and entered, or withdrawn from warehouse, for consumption in the United States during the period December 21, 2022 (the date of publication of the initiation of these circumvention inquiries), through the date of publication of the Preliminary Determinations in the Federal Register, for which none of the above certifications may be made, importers must file a Post Summary Correction with CBP, in accordance with CBP's regulations, regarding conversion of such entries from non-AD/CVD type entries to AD/CVD type entries (e.g., type 01 to type 03). Importers should report those AD/CVD type entries using the third country CBP case numbers identified in the “Suspension of Liquidation and Cash Deposit Requirements” section, above. The importer should post cash deposits on those entries consistent with the regulations governing post summary corrections that require payment of additional duties, including antidumping and countervailing duties.

If it is determined that an importer or exporter has not met the certification and/or related documentation requirements for certain entries, Commerce intends to instruct CBP to suspend, pursuant to these country-wide affirmative determinations of circumvention and the Orders,¹¹ all unliquidated entries for which these requirements were not met and require the importer to post applicable cash deposits equal to the rates noted above.

¹¹ See Orders.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity during the anniversary month of the publication of the Orders to submit such requests. The anniversary month for these Orders is July.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

These determinations are issued and published in accordance with section 781(b) of the Act and 19 CFR 351.226(g)(2).

Dated: January 23, 2024.
Abdelali Elouaradia,
Deputy Assistant Secretary for Enforcement and Compliance.

Appendices

Appendix No. | Appendix name
I | List of Topics Discussed in the Issues and Decision Memoranda.
II | Companies Found to Be Circumventing the Orders.
III | Certification Regarding Chinese Inputs—Thailand.
IV | Certification Regarding Chinese Inputs—Vietnam.

Appendix I

List of Topics Discussed in the Issues and Decision Memoranda

Thailand

I. Summary

II. Background

III. Scope of the Orders

IV. Merchandise Subject to the Circumvention Inquiry

V. Period of Circumvention Inquiry

VI. Changes From the Preliminary Determination

VII. Discussion of the Issues

Comment 1: Retroactive Suspension of Liquidation and Cash Deposit Requirement

Comment 2: Mill Certificate Requirement and Certification Process

Comment 3: The Relevance of Galvanized Wire Rod and Galvanized Steel Wire Production to the Circumvention Analysis

Comment 4: Whether YF Thailand's Production Process in Thailand Is Minor or Insignificant

Comment 5: Whether UM Industry's Production Process in Thailand Is Minor or Insignificant

Comment 6: Whether Circumvention Action Is Inappropriate Under the Act

Comment 7: Continuation of Certification Process

Comment 8: Chia Pao's Voluntary Response

Comment 9: Whether Commerce Should Apply Affirmative Circumvention Findings on a Country-Wide Basis

VIII. Recommendation

Vietnam

I. Summary

II. Background

III. Scope of the Orders

IV. Merchandise Subject to the Circumvention Inquiry

V. Period of Circumvention Inquiry

VI. Changes From the Preliminary Determination

VII. Discussion of the Issues

Comment 1: Retroactive Suspension of Liquidation and Cash Deposit Requirement

Comment 2: Mill Certificate Requirement and Certification Process

Comment 3: Limiting the Affirmative Determination to Collated Staples Produced From Chinese-Origin Wire Bands

Comment 4: Whether Action Is Appropriate or Necessary To Prevent Evasion of the Collated Staples Orders

Comment 5: Whether the Levels of Investment by Vina Hardwares Joint Stock Company (Vina Hardwares) and Vina Staples Co., Ltd. (Vina Staples) in Vietnam Are Minor or Insignificant

Comment 6: Whether Patterns of Trade and Post-Order Imports Support a Negative Final Circumvention Determination

Comment 7: Whether Vina Hardwares' Lack of Affiliation With Tianjin Jin Xin Sheng Long Metal Products Co., Ltd. (JXSL) or Any Other Chinese Wire Band Producer Supports a Negative Final Circumvention Determination

Comment 8: Whether Punching and Cutting Wire Bands Is a Significant Step in the Production of Collated Staples

Comment 9: Whether the Extent of Vina Staples' Production Facilities in Vietnam Is Minor or Insignificant

Comment 10: Whether Commerce Made Certain Errors in the Calculation of Vina Staples' Value of Processing Performed in Vietnam

Comment 11: Whether Commerce Should Exclude Collated Staples Produced from Vietnamese-Origin Galvanized Wire

Comment 12: Whether Commerce Abused Its Discretion by Rejecting the Quantity and Value (Q&V) Questionnaire Response from Meihotech Vietnam Inc. (Meihotech)

Comment 13: Whether Commerce Should Have Applied Adverse Facts Available (AFA) to Meihotech

Comment 14: Whether Commerce Should Clarify that the Circumvention Determination and Suspension of Liquidation Do Not Cover Merchandise Expressly Excluded from the Scope of the Orders

Comment 15: Whether Commerce Should Continue To Allow Exporters and Importers to Certify That Their Shipments and Entries From Vietnam Do Not Consist of Inquiry Merchandise

VIII. Recommendation

Appendix II

Companies Found To Be Circumventing the Orders

Thailand

1. YF Technology Corporation, Ltd.

2. UM Industry, Co., Ltd.

Vietnam

1. Vina Hardwares Joint Stock Company

2. VN Fasteners Co., Ltd.

3. Vina Staples Company Limited

4. Meihotech Vietnam Inc. (based on AFA)

5. Weifang Wenhe Pneumatic Tools Co., Ltd. (based on AFA)

Appendix III

Certification Regarding Chinese Inputs (for Thailand) Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of the certain collated steel staples (collated staples) from the People's Republic of China (China) completed in Thailand that entered under the entry summary number(s), identified below, and are covered by this certification. “Direct personal knowledge” refers to the facts the certifying party is expected to have in its own records. For example, the importer should have direct personal knowledge of the exporter's and/or seller's identity and location.

C. If the importer is acting on behalf of the first U.S. customer, include the following sentence as paragraph C of this certification:

The collated staples covered by this certification were imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The collated staples covered by this certification were shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. The importer certifies that the collated staples produced in Thailand that are covered by this certification were not manufactured using steel wire and/or wire bands produced in China, regardless of whether sourced directly from a Chinese producer or from a downstream supplier.

G. The collated staples covered by this certification are not covered by the antidumping duty or countervailing duty orders on collated staples from China.

H. This certification applies to the following entries (repeat this block as many times as necessary):

Entry Summary #:

Entry Summary Line Item #:

Foreign Seller:

Foreign Seller's Address:

Foreign Seller's Invoice #:

Foreign Seller's Invoice Line Item #:

Producer:

Producer's Address:

I. I understand that {NAME OF IMPORTING COMPANY} is required to maintain a copy of this certification and sufficient documentation supporting this certification (i.e., documents maintained in the normal course of business, or documents obtained by the certifying party, for example, product specification sheets, production records, invoices, mill certificates, etc.) until the later of: (1) the date that is five years after the latest entry date of the entries covered by the certification; or (2) the date that is three years after the conclusion of any litigation in United States courts regarding such entries.

J. I understand that {NAME OF IMPORTING COMPANY} is required to maintain a copy of the exporter's certification (attesting to information regarding the production and/or exportation of the imported merchandise identified above), and any supporting documentation provided to the importer by the exporter, until the later of: (1) the date that is five years after the latest entry date of the entries covered by the certification; or (2) the date that is three years after the conclusion of any litigation in United States courts regarding such entries.

K. I understand that {NAME OF IMPORTING COMPANY} is required to provide U.S. Customs and Border Protection (CBP) and/or the U.S. Department of Commerce (Commerce) with the importer certification, and any supporting documentation, and a copy of the exporter's certification, and any supporting documentation provided to the importer by the exporter, upon the request of either agency.

L. I understand that the claims made herein, and the substantiating documentation, are subject to verification by CBP and/or Commerce.

M. I understand that failure to maintain the required certifications and supporting documentation, or failure to substantiate the claims made herein, or not allowing CBP and/or Commerce to verify the claims made herein, may result in a de facto determination that all entries to which this certification applies are entries of merchandise that is covered by the scope of the antidumping and countervailing duty orders on certain collated steel staples from China. I understand that such a finding will result in:

(i) suspension of liquidation of all unliquidated entries (and entries for which liquidation has not become final) for which these requirements were not met;

(ii) the importer being required to post the antidumping duty and countervailing duty cash deposits determined by Commerce; and

(iii) the importer no longer being allowed to participate in the certification process.

N. I understand that agents of the importer, such as brokers, are not permitted to make this certification.

O. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

P. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF EXPORTING COMPANY}, located at {ADDRESS OF EXPORTING COMPANY}.

B. I have direct personal knowledge of the facts regarding the production and exportation of the collated staples for which sales are identified below. “Direct personal knowledge” refers to facts the certifying party is expected to have in its own records. For example, an exporter should have direct personal knowledge of the producer's identity and location.

C. The collated staples covered by this certification were shipped to {NAME OF PARTY IN THE UNITED STATES TO WHOM MERCHANDISE WAS FIRST SHIPPED}, located at {U.S. ADDRESS TO WHICH MERCHANDISE WAS SHIPPED}.

D. The seller certifies that the collated staples produced in Thailand that are covered by this certification were not manufactured using steel wire and/or wire bands produced in China, regardless of whether sourced directly from a Chinese producer or from a downstream supplier.

E. The collated staples covered by this certification are not covered by the antidumping duty or countervailing duty orders on collated staples from China.

F. This certification applies to the following sales to {NAME OF U.S. CUSTOMER}, located at {ADDRESS OF U.S. CUSTOMER} (repeat this block as many times as necessary):

Foreign Seller's Invoice # to U.S. Customer:

Foreign Seller's Invoice to U.S. Customer Line Item #:

Producer Name:

Producer's Address:

Producer's Invoice # to the Foreign Seller: (if the foreign seller and the producer are the same party, report “NA” here)

G. I understand that {EXPORTING COMPANY} is required to maintain a copy of this certification and sufficient documentation supporting this certification (i.e., documents maintained in the normal course of business, or documents obtained by the certifying party, for example, product specification sheets, customer specification sheets, production records, invoices, mill certificates, etc.) until the later of: (1) the date that is five years after the latest entry date of the entries covered by the certification; or (2) the date that is three years after the conclusion of any litigation in United States courts regarding such entries.

H. I understand that {EXPORTING COMPANY}is required to provide the U.S. importer with a copy of this certification and is required to provide U.S. Customs and Border Protection (CBP) and/or the U.S. Department of Commerce (Commerce) with this certification, and any supporting documents, upon the request of either agency.

I. I understand that the claims made herein, and the substantiating documentation, are subject to verification by CBP and/or Commerce.

J. I understand that failure to maintain the required certification and supporting documentation, or failure to substantiate the claims made herein, or not allowing CBP and/or Commerce to verify the claims made herein, may result in a de facto determination that all sales to which this certification applies are sales of merchandise that is covered by the scope of the antidumping and countervailing duty orders on collated staples from China. I understand that such a finding will result in:

(i) suspension of liquidation of all unliquidated entries (and entries for which liquidation has not become final) for which these requirements were not met;

(ii) the importer being required to post the antidumping and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after the date of publication of the notice of Commerce's preliminary determination of circumvention in the Federal Register. If the shipment date is on or before the date of publication of the notice of Commerce's preliminary determination of circumvention in the Federal Register, this certification was completed and signed, and a copy of the certification was provided to the importer, by no later than 45 days after publication of the notice of Commerce's preliminary determination of circumvention in the Federal Register.

M. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

APPENDIX IV

Certification Regarding Chinese Inputs (for Vietnam) Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of the certain collated steel staples (collated staples) from the People's Republic of China (China) completed in Vietnam that entered under the entry summary number(s), identified below, and are covered by this certification. “Direct personal knowledge” refers to the facts the certifying party is expected to have in its own records. For example, the importer should have direct personal knowledge of the exporter's and/or seller's identity and location.

C. If the importer is acting on behalf of the first U.S. customer, include the following sentence as paragraph C of this certification:

The collated staples covered by this certification were imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The collated staples covered by this certification were shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. The importer certifies that the collated staples produced in Vietnam that are covered by this certification were not manufactured using steel wire and/or wire bands produced in China, regardless of whether sourced directly from a Chinese producer or from a downstream supplier.

G. The collated staples covered by this certification are not covered by the antidumping duty or countervailing duty orders on collated staples from China.

H. This certification applies to the following entries (repeat this block as many times as necessary):

Entry Summary #:

Entry Summary Line Item #:

Foreign Seller:

Foreign Seller's Address:

Foreign Seller's Invoice #:

Foreign Seller's Invoice Line Item #:

Producer:

Producer's Address:

I. I understand that {NAME OF IMPORTING COMPANY} is required to maintain a copy of this certification and sufficient documentation supporting this certification (i.e., documents maintained in the normal course of business, or documents obtained by the certifying party, for example, product specification sheets, production records, invoices, mill certificates, etc.) until the later of: (1) the date that is five years after the latest entry date of the entries covered by the certification; or (2) the date that is three years after the conclusion of any litigation in United States courts regarding such entries.

J. I understand that {NAME OF IMPORTING COMPANY} is required to maintain a copy of the exporter's certification (attesting to information regarding the production and/or exportation of the imported merchandise identified above), and any supporting documentation provided to the importer by the exporter, until the later of: (1) the date that is five years after the latest entry date of the entries covered by the certification; or (2) the date that is three years after the conclusion of any litigation in United States courts regarding such entries.

K. I understand that {NAME OF IMPORTING COMPANY} is required to provide U.S. Customs and Border Protection (CBP) and/or the U.S. Department of Commerce (Commerce) with the importer certification, and any supporting documentation, and a copy of the exporter's certification, and any supporting documentation provided to the importer by the exporter, upon the request of either agency.

L. I understand that the claims made herein, and the substantiating documentation, are subject to verification by CBP and/or Commerce.

M. I understand that failure to maintain the required certifications and supporting documentation, or failure to substantiate the claims made herein, or not allowing CBP and/or Commerce to verify the claims made herein, may result in a de facto determination that all entries to which this certification applies are entries of merchandise that is covered by the scope of the antidumping and countervailing duty orders on collated staples from China. I understand that such a finding will result in:

(i) suspension of liquidation of all unliquidated entries (and entries for which liquidation has not become final) for which these requirements were not met;

(ii) the importer being required to post the antidumping duty and countervailing duty cash deposits determined by Commerce; and

(iii) the importer no longer being allowed to participate in the certification process.

N. I understand that agents of the importer, such as brokers, are not permitted to make this certification.

O. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

P. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF EXPORTING COMPANY}, located at {ADDRESS OF EXPORTING COMPANY}.

B. I have direct personal knowledge of the facts regarding the production and exportation of the collated staples for which sales are identified below. “Direct personal knowledge” refers to facts the certifying party is expected to have in its own records. For example, an exporter should have direct personal knowledge of the producer's identity and location.

C. The collated staples covered by this certification were shipped to {NAME OF PARTY IN THE UNITED STATES TO WHOM MERCHANDISE WAS FIRST SHIPPED}, located at {U.S. ADDRESS TO WHICH MERCHANDISE WAS SHIPPED}.

D. The seller certifies that the collated staples produced in Vietnam that are covered by this certification were not manufactured using steel wire and/or wire bands produced in China, regardless of whether sourced directly from a Chinese producer or from a downstream supplier.

E. The collated staples covered by this certification are not covered by the antidumping duty or countervailing duty orders on collated staples from China.

F. This certification applies to the following sales to {NAME OF U.S. CUSTOMER}, located at {ADDRESS OF U.S. CUSTOMER} (repeat this block as many times as necessary):

Foreign Seller's Invoice # to U.S. Customer:

Foreign Seller's Invoice to U.S. Customer Line Item #:

Producer Name:

Producer's Address:

Producer's Invoice # to the Foreign Seller: (if the foreign seller and the producer are the same party, report “NA” here)

G. I understand that {EXPORTING COMPANY} is required to maintain a copy of this certification and sufficient documentation supporting this certification (i.e., documents maintained in the normal course of business, or documents obtained by the certifying party, for example, product specification sheets, customer specification sheets, production records, invoices, mill certificates, etc.) until the later of: (1) the date that is five years after the latest entry date of the entries covered by the certification; or (2) the date that is three years after the conclusion of any litigation in United States courts regarding such entries.

H. I understand that {EXPORTING COMPANY}is required to provide the U.S. importer with a copy of this certification and is required to provide U.S. Customs and Border Protection (CBP) and/or the U.S. Department of Commerce (Commerce) with this certification, and any supporting documents, upon the request of either agency.

I. I understand that the claims made herein, and the substantiating documentation, are subject to verification by CBP and/or Commerce.

J. I understand that failure to maintain the required certification and supporting documentation, or failure to substantiate the claims made herein, or not allowing CBP and/or Commerce to verify the claims made herein, may result in a de facto determination that all sales to which this certification applies are sales of merchandise that is covered by the scope of the antidumping and countervailing duty orders on collated staples from China. I understand that such a finding will result in:

(i) suspension of liquidation of all unliquidated entries (and entries for which liquidation has not become final) for which these requirements were not met;

(ii) the importer being required to post the antidumping and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after the date of publication of the notice of Commerce's preliminary determination of circumvention in the Federal Register. If the shipment date is on or before the date of publication of the notice of Commerce's preliminary determination of circumvention in the Federal Register, this certification was completed and signed, and a copy of the certification was provided to the importer, by no later than 45 days after publication of the notice of Commerce's preliminary determination of circumvention in the Federal Register.

M. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

[FR Doc. 2024-01792 Filed 1-29-24; 8:45 am]

BILLING CODE 3510-DS-P